DEPARTMENT OF LABOR

Office of the Secretary

All Items Consumer Price Index for All Urban Consumers United States City Average

Pursuant to Section 112 of the 1976 amendments to the Federal Election Campaign Act (Pub. L. 94-283), 2 U.S.C. 441a(c)(1)-(2), the Secretary of Labor has certified to the Chairman of the Federal Election Commission and publishes this notice in the Federal Register that the United States City Average All Items Consumer Price Index for All Urban Consumers (1967=100) increased 380.1 percent from its 1974 annual average of 147.7 to its 2014 annual average of 709.156 and that it increased 33.7 percent from its 2001 annual average of 530.4 to its 2014 annual average of 709.156 Using 1974 as a base (1974=100), I certify that the United States City Average All Items Consumer Price Index for All Urban Consumers increased 380.1 percent from its 1974 annual average of 100 to its 2014 annual average of 480.133. Using 2001 as a base (2001=100), I certify that the United States City Average All Items Consumer Price Index for All Urban Consumers increased 33.7 percent from its 2001 annual average of 100 to its 2014 annual average of 133.702. Using 2006 as a base (2006=100), I certify that the CPI increased 17.4 percent from its 2006 annual average of 100 to its 2014 annual average of 117.429.

Signed at Washington, DC, on the 25th day of March 2015.
Thomas E. Perez,
Secretary of Labor.

[FR Doc. 2015-07759 Filed 4-3-15; 8:45 am]

BILLING CODE 4510-24-P